DEPARTMENT OF JUSTICE

Antitrust Division

Notice Pursuant to the National Cooperative Research and Production Act of 1993—the Digital Subscriber Line Forum

Notice is hereby given that, on April 7, 2004, pursuant to section 6(a) of the National Cooperative Research and Production Act of 1993, 15 U.S.C. 4301 et seq. (“the Act”), The Digital Subscriber Line Forum (“DSL”) filed written notifications simultaneously with the Attorney General and the Federal Trade Commission disclosing changes in its membership. The notifications were filed for the purpose of extending the Act's provisions limiting the recovery of antitrust plaintiffs to actual damages under specified circumstances. Specifically, Advanced Digital Broadcast, Grand-Saconnex, Geneva, SWITZERLAND; AIMS (INT), Dunfermline, Fife, UNITED KINGDOM; Carrier Access Corporation, Roanoke, VA; Caspian Networks, San Jose, CA; Ellacoya Networks, Merrimack, NH; Forschungszentrum Telekommunikation Wein (FTW), Wien, AUSTRIA; Matav, Budapest, HUNGARY; P-Cube Inc., Sunnyvale, CA; TNO Telecom, Delft, THE NETHERLANDS; and Foxconn, Taipei Hsien, TAIWAN, have been added as parties to this venture. Also, 1-800 FAST DSL, La Jolla, CA; 4i2i, Bucksburn, Aberdeen, UNITED KINGDOM; Abocom, Miao-Lih Hsuan, TAIWAN; ACACIA, Saint-Peray, FRANCE; AccFast Technology Corp., Hsinchu, TAIWAN; ARESCOM, INC., Fremont, CA; ASTRI, Tsimshatsui, Kowloon, HONG KONG; AT&T Laboratories, Florham Park, NJ; Aztech Systems, Sinagpore, SINGAPORE; BI Technologies, Fullerton, CA; BroadMAX Technologies, Industry, CA; Cesky Telecom, Praha 3, CZECH REPUBLIC; Cidco Communications Corporation, Morgan Hill, CA; Delta Networks, Taipei, TAIWAN; DrayTek Corp., Hsinchu, TAIWAN; Efficient Networks, Dallas, TX; ETI, Noerresundby, DENMARK; Gatespace AB, Goteborg, SWEDEN; Harris Corporation, Camarillo, CA; Incognito Software, Vancouver, British Columbia, CANADA; Infratel Communications, Huntingdon Valley, PA; ITI Limited, Bangalore, Karataka, INDIA; Lite-On Technology, Chung-Ho 235, Taipei Hsien, TAIWAN; Next Level Communications, Jersey City, NJ; NextGenTel, Bergen, NORWAY; NTT Corporation, Chiba-shi, JAPAN; Panasonic Communications, Tokyo, JAPAN; PCCW Limited, Quarry Bay, HONG KONG; Pine-net, Broken Bow, OK; Rad Data Communications, Tel Aviv, ISRAEL; Sagem Group, Paris, FRANCE; Sumida, San Diego, CA; Sun Microsystems, Palo Alto, CA; Suttle, Eden Prairie, MN; Telefonica CTC Chile, Santiago, CHILE; Teradyne, Deerfield, IL; TUV Rheinland of N.A., Pleasanton, CA; US Robotics, Schaumburg, IL; Valo Inc., Petaluma, CA; Xilinx, San Jose, CA; and Zyxel Communications, Anaheim, CA, have been dropped as parties to this venture.

Globespan Virata, Cambridge, UNITED KINGDOM, has merged into Conexant, Red Bank, NJ.

KI Consulting & Solutions, Rudsjoterassen, SWEDEN, is now called TietoEnator, Haninge, SWEDEN.

No other changes have been made in either the membership or planned activity of the group research project. Membership in this group research project remains open, and DSL intends to file additional written notifications disclosing all changes in membership.

On May 15, 1995, DSL filed its original notification pursuant to section 6(a) of the Act. The Department of Justice published a notice in the Federal Register pursuant to section 6(b) of the Act on July 25, 1995 (60 FR 38058).

The last notification was filed with the Department on December 31, 2003. A notice was published in the Federal Register pursuant to Section 6(b) of the Act on February 24, 2004 (69 FR 8483).

Dorothy B. Fountain,
Deputy Director of Operations, Antitrust Division.

[FR Doc. 04-13875 Filed 6-18-04; 8:45 am]

BILLING CODE 4410-11-M